DEPARTMENT OF HEALTH AND HUMAN SERVICES

National Institutes of Health

Center for Scientific Review; Amended Notice of Meeting

Notice is hereby given of a change in the meeting of the Center for Scientific Review Special Emphasis Panel: Cancer Biology AREA/REAP Review, April 8, 2025, 11:00 a.m. to April 8, 2025, 3:00 p.m., National Institutes of Health, Rockledge II, 6701 Rockledge Drive, Bethesda, MD, 20892 which was published in the Federal Register on March 19, 2025, 90 FR 12742, FR Doc. 2025-04582.

This meeting is being amended to change the start time from 11:00 a.m. to 12:00 p.m. on April 8, 2025. The meeting is closed to the public.

Dated: March 20, 2025.
David W. Freeman,
Supervisory Program Analyst, Office of Federal Advisory Committee Policy.

[FR Doc. 2025-05075 Filed 3-25-25; 8:45 am]

BILLING CODE 4140-01-P